DEPARTMENT OF COMMERCE

International Trade Administration

[A-469-814]

Chlorinated Isocyanurates From Spain: Extension of Time Limit for Preliminary Results of the First Administrative Review

AGENCY: Import Administration, International Trade Administration, Department of Commerce.

EFFECTIVE DATE: February 16, 2007.

FOR FURTHER INFORMATION CONTACT: Thomas Martin or Mark Manning at (202) 482-3936 or (202) 482-5253, respectively; AD/CVD Operations, Office 4, Import Administration, International Trade Administration, U.S. Department of Commerce, 14th Street and Constitution Avenue, NW., Washington, DC 20230.

SUPPLEMENTARY INFORMATION: On July 27, 2006, the Department of Commerce (the Department) initiated an administrative review of the antidumping duty order on chlorinated isocyanurates from Spain, for the period December 20, 2004, to May 31, 2006. See Initiation of Antidumping and Countervailing Duty Administrative Reviews and Request for Revocation in Part, 71 FR 42626 (July 27, 2006).

Extension of Time Limits for Preliminary Results of Antidumping Duty Administrative Review

Section 751(a)(3)(A) of the Tariff Act of 1930, as amended (the Act) and 19 CFR 351.213(h)(1) require the Department to issue the preliminary results of an administrative review within 245 days after the last day of the anniversary month of the order for which the administrative review was requested, and the final results of the review within 120 days after the date on which the notice of the preliminary results was published in the Federal Register. However, if the Department determines that it is not practicable to complete the review within these time periods, section 751(a)(3)(A) of the Act and 19 CFR 351.213(h)(2) allow the Department to extend the 245-day period to 365 days and the 120-day period to 180 days.

We determine that it is not practicable to complete the preliminary results of this administrative review by the current deadline of March 2, 2007. The Department requires additional time to review Aragonesas Industrias y Energía S.A.'s recent submissions, which may require the Department to make additional requests for information in regard to affiliation, and certain sales and cost of production-related issues. Therefore, in accordance with section 751(a)(3)(A) of the Act and 19 CFR 351.213(h)(2), the Department is extending the time limit for the completion of these preliminary results to June 1, 2007. The final results will be due 120 days after the date of issuance of the preliminary results, unless extended.

This notice is issued and published in accordance with sections 751(a)(3)(A) and 777(i)(1) of the Act.

Dated: February 13, 2007.
Stephen J. Claeys,
Deputy Assistant Secretary for Import Administration.

[FR Doc. E7-2820 Filed 2-15-07; 8:45 am]

BILLING CODE 3510-DS-P